DEPARTMENT OF TRANSPORTATION

Federal Motor Carrier Safety Administration

[Docket No. FMCSA-2009-0035]

Agency Information Collection Activities; New Information Collection Request: Annual Commercial Motor Vehicle Driver Survey: Work and Compensation

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for review and approval. The purpose of this new information collection is to acquire general information regarding the commercial motor vehicle (CMV) driving population and specific information on driver work history, work scheduling, and compensation. This information is needed in many different types of analyses conducted by the FMCSA and would benefit the agency in understanding the impacts of proposed rules and the improvement of its safety programs. On December 12, 2008, FMCSA published a Federal Register notice allowing for a 60-day comment period on the ICR. One comment was received.

DATES: Please send your comments by July 2, 2009. OMB must receive your comments by this date in order to act quickly on the ICR.

ADDRESSES: All comments should reference Federal Docket Management System (FDMS) Docket Number FMCSA-2008-0035. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street, NW., Washington, DC 20503.

FOR FURTHER INFORMATION CONTACT: Dr. Mindy Shalaby, Economist, Analysis Division, Office of Analysis, Research and Technology, Federal Motor Carrier Safety Administration, 1200 New Jersey Ave., SE., Washington, DC 20590. Telephone: (202) 493-0304; e-mail Mindy.Shalaby@dot.gov. Requests for additional information or copies of the information collection instrument and instructions should be directed to Dr. Michelle Yeh, Engineering Psychologist, Human Factors Division, Volpe National Transportation Systems Center, 55 Broadway, Cambridge, MA 02124. Telephone: (617) 494-3459; e-mail Michelle.Yeh@dot.gov. Office hours are from 9 a.m. to 5 p.m., Monday through Friday, except Federal Holidays.

SUPPLEMENTARY INFORMATION:

Title: Annual Commercial Motor Vehicle Driver Survey: Work and Compensation.

OMB Control Number: 2126-XXXX.

Type of Request: New information collection request.

Respondents: Commercial motor vehicle drivers.

Estimated Number of Respondents: 576 commercial motor vehicle drivers.

Estimated Time per Response: 15 minutes per response.

Expiration Date: N/A.

Frequency of Response: Once.

Estimated Total Annual Burden: 144 hours [576 respondents × 15 minutes/60 minutes per response = 144].

Background: The Federal Motor Carrier Safety Administration seeks to understand the commercial motor vehicle driving population. Driver-related factors are an important consideration in CMV crashes, but there is no comprehensive nationwide source of information describing the population of drivers operating CMVs in the United States (U.S.). Estimates of the number of commercial drivers and particular subsets of drivers (e.g., local, short-haul, and long-haul) are needed and would benefit FMCSA in assessing the impacts of proposed rules and improvements needed in its safety programs. In particular, information on driver work history, work schedule, and compensation is needed in many different types of analyses conducted by FMCSA.

Driver work history addresses how long a CMV driver has been working in the industry, his/her level of experience, and his/her type of experience. These items include questions regarding driver tenure with his/her current employer and the number of past employers to provide information regarding the driver turnover rate. The agency would also collect information under these items about driver training to understand how drivers learned to operate their CMVs and the amount of training that is ongoing in the industry. The driver work schedule item examines the issue of how much drivers work and the activities in which they are engaged when they work (e.g., driving time, loading time, waiting time). FMCSA is interested in understanding how drivers' work schedules are tracked (e.g., with paper log books or Electronic On-Board Recorders (EOBRs)). Finally, driver compensation collects information on how much drivers earn and how they are paid (e.g., salary, by hour, or by mile). This data will allow FMCSA to estimate an average wage rate, which can be used to understand the cost imposed on drivers by current and proposed regulations.

The goals of this survey are to acquire general demographic information regarding the commercial motor vehicle driving population, and specific information on driver work history, work scheduling, and compensation. Data for this project would be collected via driver interviews. The results of the information collection would be summarized in a report developed for the FMCSA and made available to the public.

On December 12, 2008, the FMCSA published a Federal Register notice on this same topic and provided 60 days for public comment (73 FR 75793). The Agency received one comment from the Owner-Operator Independent Drivers Association, INC (OOIDA) in response to the notice. OOIDA expressed support for the survey and provided several suggestions on how the survey questions and methodology for collecting the data could be improved. FMCSA will consider these suggestions during the implementation of the survey.

Public Comments Invited: You are asked to comment on any aspect of this information collection, including: (1) Whether the proposed collection is necessary for the FMCSA to perform its functions; (2) the accuracy of the estimated burden; (3) ways for the FMCSA to enhance the quality, usefulness, and clarity of the collected information; and (4) ways that the burden could be minimized without reducing the quality of the collected information.

Issued on: May 26, 2009.
David C. Anewalt,
Acting Associate Administrator, Research and Information Technology.

[FR Doc. E9-12777 Filed 6-1-09; 8:45 am]

BILLING CODE 4910-EX-P